SOCIAL SECURITY ADMINISTRATION

[Docket No: SSA-2026-0002]

Agency Information Collection Activities: Comment Request

The Social Security Administration (SSA) publishes a list of information collection packages requiring clearance by the Office of Management and Budget (OMB) in compliance with Public Law 104-13, the Paperwork Reduction Act of 1995, effective October 1, 1995. This notice includes one new information collection.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA.

(SSA) Social Security Administration, OLCA, Attn: Reports Clearance Director, Mail Stop 3253 Altmeyer, 6401 Security Blvd., Baltimore, MD 21235, Fax: 833-410-1631, Email address: OR.Reports.Clearance@ssa.gov.

Or you may submit your comments online through https://www.reginfo.gov/public/do/PRAmain by clicking on Currently under Review—Open for Public Comments and choosing to click on one of SSA's published items. Please reference Docket ID Number [SSA-2026-0002] in your submitted response.

SSA submitted the information collections below to OMB for clearance. Your comments regarding these information collections would be most useful if OMB and SSA receive them 30 days from the date of this publication. To be sure we consider your comments, we must receive them no later than March 4, 2026. Individuals can obtain copies of these OMB clearance packages by writing to the OR.Reports.Clearance@ssa.gov.

1. Ticket to Work Program Evaluation—0960-NEW. In compliance with the Ticket to Work Incentives Improvement Act if 1999 (Pub. L. 106-170) Section 101(d)(4)(A), SSA is contracting with Mathematica to conduct an independent evaluation to assess (1) the effects of the program on work outcomes and self-sufficiency, and (2) their cost effectiveness.

Background

The Ticket Act established supports designed to increase the availability of and access to employment services for adults with disabilities receiving Social Security Disability Insurance (SSDI) or Supplemental Security Income (SSI), hereafter referred to as Ticketholders.¹ Among the supports created by the Ticket Act were three programs:

¹ Throughout this document, “Ticketholders” broadly refers to working-age disabled SSI and SSDI beneficiaries who are eligible for services created by the Ticket Act.

• Ticket To Work (TTW). The TTW program established an alternative system for providing employment services to disabled SSI recipients and SSDI beneficiaries. Under TTW, Ticketholders can obtain vocational rehabilitation, employment services, or other support services from SSA-approved Employment Networks (ENs) or state vocational rehabilitation (VR) agencies. SSA pays ENs or VR agencies if the Ticketholders they serve work and earn above specified amounts.

• Work Incentives Planning and Assistance (WIPA). SSA awards cooperative agreements to community-based organizations to provide expertise and counseling that helps disabled SSI recipients and SSDI beneficiaries understand how their earnings affect their disability benefits, with a goal of helping beneficiaries successfully transition to work.

• Protection and Advocacy for Beneficiaries of Social Security (PABSS). SSA awards grants to Protection & Advocacy (P&A) agencies in states, territories, and tribal communities to provide legal-based advocacy services for SSI and SSDI beneficiaries who want to work. PABSS grantees offer services to help remove barriers to employment, including helping beneficiaries secure TTW and other employment-related services; helping beneficiaries understand issues with their disability benefits; and helping to protect beneficiaries' legal rights to employment, transportation, and housing.

Purpose of the Evaluation

To comply with Public Law 106-170, the evaluation will document the extent to which Ticket Act programs are effective, meaning that they achieve their legislative intent: to allow individuals with disabilities to seek the services necessary to obtain and retain employment and reduce their dependency on cash benefit programs. The evaluation findings on these components will support SSA's understanding of:

(1) Whether the programs achieve their legislative intent;

(2) The factors contributing to this achievement or lack thereof, and

(3) Opportunities for improvement of the programs' efficiency and effectiveness.

The evaluation will also document the cost effectiveness of Ticket Act programs as currently structured, identifying opportunities to deliver the same outcomes at lower costs or improve outcomes with additional investments.

As SSA implemented many changes to the Ticket Act programs since our last comprehensive evaluation in 2013, we are also conducting this evaluation to assess these revisions to the programs, including:

• The increased prevalence of remote service delivery, which makes services more broadly available to Ticketholders, but may reduce the effectiveness of services offered.

• Changes to the number of ENs and VR agencies participating in the program, as well as changes to the types of services they offer. These changes may affect the overall effectiveness of the program.

• Revisions that changed the programs' operations, for instance the implementation of electronic submissions, which may also affect the overall effectiveness of the program.

• Investment in a marketing program to support EN outreach, which may have affected the overall use of the TTW program.

We expect this comprehensive evaluation will provide updated information regarding: (1) the ability of the Ticket Programs to achieve their legislative intent; and (2) the evidence base necessary to determine the need for potential programmatic changes or other proposals to maximize program effectiveness.

The Evaluation Methods

SSA contracted with Mathematica to conduct the evaluation; however, SSA will oversee all data collection activities. The evaluation will utilize the following data collection efforts:

• Surveys of the Ticket Act service providers (“provider surveys”): Mathematica will field three concurrent surveys, each focusing on a specific type of Ticket Act service provider. The surveys will ask about provider decisions to participate in the program, provider decisions about service provision, and about challenges that ENs and VR agencies face in effectively serving beneficiaries. Mathematica will invite one person from each EN, VR agency, WIPA project, and P&A agency with a PABSS grant (572 organizations) to respond as a representative on behalf of the organization.² Each organization's representative will complete an interview via a self-administered online survey.

² Numbers of provider organizations as of 2024. To the extent that the universe of service providers changes between the time of drafting of this document and the survey fielding period, we will field the survey to the population of services providers as of a date as close to the beginning of survey fielding as practicable.

• Qualitative interviews with Ticketholders (“qualitative data collection”): Mathematica will conduct interviews with Ticketholders to provide a platform for open-ended, guided discussions in which interviewees can share their experiences with the Ticket Act programs, including their ability to find a provider at all; find a provider who could meet their employment service needs; and experiences with services affecting their employment outcomes. We expect these interview findings will help assess the extent to which Ticket Act programs are working effectively and efficiently and what opportunities may be available to improve the achievement of program outcomes. Mathematica will use existing SSA records to select a random sample of Ticketholders and invite them to participate in interviews. These interviews will be voluntary, and Mathematica will administer them over a four-month period.

Mathematica will conduct these surveys and interviews using a mix of online and telephone processes as well as computer-based management tools for streamlining recruitment and scheduling, ensuring clear documentation for each interview or survey and for recording the data.

The Respondents are service providers for the Ticket to Work program, specifically one staff member from each EN, state VR, WIPA project and P&A agency with a PABSS grant (“Providers”), as well as Ticketholders.

Type of Request: Request for renewal of an information collection.

Modality of completion | Number of respondents | Frequency of response | Average burden per response (minutes) | Total annual burden (hours) * | Average theoretical hourly cost ** | Total estimated annual opportunity cost ***
Provider surveys
TTW survey | 353 | 1 | 38 | * 224 | ** $40.10 | *** $8,982
WIPA survey | 59 | 1 | 38 | * 37 | ** 40.10 | *** 1,483
PABSS survey | 46 | 1 | 28 | * 21 | ** 40.10 | *** 842
Subtotal—surveys | 458 |  |  | * 282 |  | *** 11,307
Qualitative interviews
Ticketholder: TTW users | 70 | 1 | 51 | * 60 | ** 16.22 | *** 973
Ticketholder: TTW non-users | 10 | 1 | 41 | * 7 | ** 16.22 | *** 114
Ticketholder: WIPA users | 20 | 1 | 51 | * 17 | ** 16.22 | *** 276
Subtotal—qualitative interviews | 100 |  |  | 84 |  | *** 1,363
Totals
Surveys | 458 |  |  | * 282 |  | *** 11,307
Qualitative interviews | 100 |  |  | * 84 |  | *** 1,363
Total | 558 |  |  | * 366 |  | *** 12,670
* To show annual burden, we multiplied the number of respondents by the number of responses annually by the average respondent burden per response. We allocated the number of planned responses by year based on the timing of the provider survey and the planned distribution of the qualitative interviews over the two calendar years.
** Opportunity cost estimates for Ticket Act providers assume a wage rate of $40.10 per hour, the average national wage reported by the Bureau of Labor Statistics for the employment category of “Social and Community Service Managers” (accessed at https://www.bls.gov/oes/current/oes119151.htm on October 22, 2024). Opportunity cost estimates for SSA Ticketholders assume a rate of $16.22 per hour, corresponding to the average wage for employed SSDI and SSI beneficiaries in 2019 ($12.92, https://www.ssa.gov/policy/docs/statcomps/nbs/2019/job-characteristics.html) adjusted for inflation using the U.S. Bureau of Labor Statistic's Inflation Calculator (https://www.bls.gov/data/inflation_calculator.htm).
*** This figure does not represent actual costs that SSA will impose on survey respondents or participants in the qualitative interviews. They are theoretical opportunity costs for the time that respondents will spend participating in data collection activities. There is no charge to respondents for participating in data collection activities. We calculated these costs by multiplying the total annual burden in hours by the average theoretical hourly rate. Because the table presents rounded total annual burden hours, this rounding may affect the previsions needed to replicate these estimates. There is no actual charge to respondents to complete the tasks.

Mark Steffensen,
General Counsel, Chief of Law and Policy, Social Security Administration.

[FR Doc. 2026-01932 Filed 1-30-26; 8:45 am]

BILLING CODE 4191-02-P